DEPARTMENT OF DEFENSE

Defense Acquisition Regulations System

48 CFR Part 252

RIN 0750-AI25

Defense Federal Acquisition Regulation Supplement: Electronic Submission of Technical Reports (DFARS Case 2014-D001)

AGENCY: Defense Acquisition Regulations System, Department of Defense (DoD).

ACTION: Proposed rule.

SUMMARY: DoD is proposing to amend the Defense Federal Acquisition Regulation Supplement (DFARS) to require scientific and technical reports be submitted in electronic format.

DATES: Comment date: Comments on the proposed rule should be submitted in writing to the address shown below on or before October 27, 2014, to be considered in the formation of a final rule.

ADDRESSES: Submit comments identified by DFARS Case 2014-D001, using any of the following methods:

○ Regulations.gov: http://www.regulations.gov. Submit comments via the Federal eRulemaking portal by entering “DFARS Case 2014-D001” under the heading “Enter keyword or ID” and selecting “Search.” Select the link “Submit a Comment” that corresponds with “DFARS Case 2014-D001.” Follow the instructions provided at the “Submit a Comment” screen. Please include your name, company name (if any), and “DFARS Case 2014-D001” on your attached document.

○ Email: osd.dfars@osd.mil. Include DFARS Case 2014-D001 in the subject line of the message.

○ Fax: 571-372-6094.

○ Mail: Defense Acquisition Regulations System, Attn: Ms. Veronica Fallon, OUSD (AT&L) DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Veronica Fallon, Defense Acquisition Regulations System, OUSD (AT&L) DPAP/DARS, Room 3B941, 3060 Defense Pentagon, Washington, DC 20301-3060. Telephone 571-372-6098.

SUPPLEMENTARY INFORMATION:

I. Background

DoD is proposing to revise the DFARS to implement a policy that requires submission of scientific and technical reports in electronic media. Reports would be submitted online to the Defense Technical Information Center.

II. Discussion and Analysis

This proposed rule will revise DFARS clause 252.235-7011, Final Scientific or Technical Report, by requiring the contractor to submit an electronic copy of the approved final scientific or technical report. This change will lend efficiency to the submission process by no longer requiring the electronically initiated report to be printed for submission. It will also allow the report to be submitted in the same format as it was created.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

DoD does not expect this proposed rule to have a significant economic impact on a substantial number of small entities within the meaning of the Regulatory Flexibility Act, 5 U.S.C. 601, et seq., because the rule is merely updating the means of submitting an existing requirement to the Government. However, an initial regulatory flexibility analysis has been performed and is summarized as follows:

This proposed rule is being issued to require the submission of final scientific or technical reports by electronic means in lieu of paper documents. Electronic submission of the report is required by DoD Instruction 3200.12, DoD Scientific and Technical Information Program. The proposed rule will revise DFARS 252.235-7011, Final Scientific or Technical Report, by requiring the contractor to submit an electronic copy of the approved final scientific or technical report. This change will lend efficiency to the submission process by no longer requiring the electronically initiated report to be printed for submission. It will also allow the report to be submitted in the same format as it was created, thereby streamlining and modernizing the report submission process.

According to the Federal Procurement Data System (FPDS), in Fiscal Year 2013 DoD made approximately 469,593 contract awards (excluding modifications) to small businesses, of which approximately 4,143 (less than 1%) (excluding modifications), were awarded as Research, Development, Test and Evaluation (RDT&E) contracts. It is unknown as to how many of these RDT&E contracts required the submission of scientific or technical reports, since that level of detail is not contained in the FPDS data. However, DoD does not expect this proposed rule to have a significant economic impact on a substantial number of small entities because it is not revising any report submission requirements, it is only modernizing the submission process.

This rule does not duplicate, overlap, or conflict with any other Federal rules.

DoD did not identify any alternatives to this rule that would reduce burdens on small entities and meet the objective of the rule. This rule does not impose any new burdens on small entities, and since the rule only changes the mode of submission of the reports from paper to electronic means, this change is expected to have only a negligible impact. DoD invites comments from small business concerns and other interested parties on the expected impact of this rule on small entities.

DoD will also consider comments from small entities concerning the existing regulations in subparts affected by this rule in accordance with 5 U.S.C. 610. Interested parties must submit such comments separately and should cite 5 U.S.C. 610 (DFARS Case 2014-D001), in correspondence.

V. Paperwork Reduction Act

The Paperwork Reduction Act (44 U.S.C chapter 35) does apply; however, these changes to the DFARS do not impose additional information collection requirements to the paperwork burden previously approved under OMB Control Number 0704-0188, entitled ASSIST Database, which expires on August 31, 2016.

List of Subjects in 48 CFR Part 252

Government procurement.

Manuel Quinones,
Editor, Defense Acquisition Regulations System.

Therefore, 48 CFR part 252 is proposed to be amended as follows:

PART 252—SOLICITATION PROVISIONS AND CONTRACT CLAUSES

1. The authority citation for 48 CFR part 252 continues to read as follows:

Authority: 41 U.S.C. 1303 and 48 CFR chapter 1.

2. Section 252.235.7011 is revised to read as follows:

252.235-7011 Final Scientific or Technical Report.

As prescribed in 235.072(d), use the following clause:

Final Scientific or Technical Report (Date)

The Contractor shall—

(a) Submit an electronic copy of the approved final scientific or technical report, not a summary, delivered under this contract to the Defense Technical Information Center (DTIC) through the web-based input system at http://www.dtic.mil/dtic/submit/ as required under DoD Instruction 3200.12. Include a completed Standard Form 298, Report Documentation Page, in the document, or complete the web based SF 298.

(b) For instructions on submitting multi-media reports, follow the instructions at http://www.dtic.mil/dtic/submit.

(c) Email classified reports (up to Secret) to TR@DTIC.SMIL.MIL. If a SIPRNET email capability is not available, follow the classified submission instructions at http://www.dtic.mil/dtic/submit/.

(End of clause)

[FR Doc. 2014-20526 Filed 8-27-14; 8:45 am]

BILLING CODE 5001-06-P